DEPARTMENT OF AGRICULTURE

Food and Nutrition Service

Submission for OMB Review; Comment Request

March 23, 2016.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by April 28, 2016 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: 7 CFR part 225, Summer Food Service Program.

OMB Control Number: 0584-0280.

Summary of Collection: Section 13 of the Richard B. Russell National School Lunch Act (42 U.S.C. 1761) authorizes the Summer Food Service Program (SFSP). The SFSP is directed toward children in low-income areas when school is not in session and is operated locally by approved sponsors. Local sponsors may include public or private non-profit school food authorities (SFAs), public or private non-profit residential summer camps, units of local, municipal, county or State governments, or other private non-profit organizations that develop a special summer program and provide meal service similar to that available to children during the school year under the National School Lunch Program and the School Breakfast Program. Under the program, a sponsor receives reimbursement for serving nutritious, well-balanced meals to eligible children at the food service sites. Information is gathered from State agencies and other organizations wishing to participate in the program to determine eligibility.

Need and Use of the Information: FNS uses the information collected to determine an organization's eligibility and to monitor program performance for compliance and reimbursement purposes.

Description of Respondents: Individuals or households; Farms; Not-for-profit institutions; State, Local, or Tribal Government.

Number of Respondents: 106,621.

Frequency of Responses: Recordkeeping; Reporting; Public Disclosure: On occasion; Quarterly; Annually.

Total Burden Hours: 197,602.

Ruth Brown,
Departmental Information Collection Clearance Officer.

[FR Doc. 2016-07002 Filed 3-28-16; 8:45 am]

BILLING CODE 3410-30-P